DEPARTMENT OF EDUCATION

Notice of Proposed Information Collection Requests

AGENCY: Department of Education.

ACTION: Correction notice.

SUMMARY: On August 27, 2001, a 30-day notice inviting comment from the public was published for the School Renovation, Individuals with Disabilities Education Act (IDEA), and Technology Grant Application in the Federal Register (Volume 66, Number 166) dated August 27, 2001. The abstract for this notice was printed incorrectly. The abstract for the information collection should read as follows:

ED will use the information collected through this application to award grants to approximately 52 State educational agencies that will conduct competitive grant processes to award subgrants to eligible local educational agencies. The information will also be used to describe to the Congress and the public how these grants are being used.

The Leader, Regulatory Information Management, Office of the Chief Information Officer, hereby issues a correction notice on the submission for OMB review as required by the Paperwork Reduction Act of 1995.

ADDRESSES: Written comments should be addressed to the Office of Information and Regulatory Affairs, Attention: Lauren Wittenberg, Acting Desk Officer, Department of Education, Office of Management and Budget, 725 17th Street, NW., Room 10235, New Executive Office Building, Washington, DC 20503 or should be electronically mailed to the internet address Karen_F._Lee@OMB.EOP.GOV.

Requests for copies of the proposed information collection request may be accessed from http://edicsweb.ed.gov, or should be addressed to Vivian Reese, Department of Education, 400 Maryland Avenue, SW., Room 5624, Regional Office Building 3, Washington, DC 20202-4651 or should be electronically mailed to the internet address OCIO_RIMG@ed.gov, or should be faxed to 202-708-9346.

FOR FURTHER INFORMATION CONTACT: Kathy Axt at her internet address Kathy.Axt@ed.gov.

Dated: August 27, 2001.
John Tressler,
Leader, Regulatory Information Management Group, Office of the Chief Information Officer.

[FR Doc. 01-21988 Filed 8-30-01; 8:45 am]

BILLING CODE 4000-01-P